FEDERAL EMERGENCY MANAGEMENT AGENCY

44 CFR Part 65

Changes in Flood Elevation Determinations

AGENCY: Federal Emergency Management Agency (FEMA).

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes the final determinations listed below of the final determinations of modified base flood elevations for each community listed. These modified elevations have been published in newspapers of local circulation and ninety (90) days have elapsed since that publication. The Associate Director for Mitigation has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act. This rule is categorically excluded from the requirements of 44 CFR part 10, Environmental Consideration. No environmental impact assessment has been prepared.

Regulatory Flexibility Act. The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona:
Cochise (FEMA Docket No. B-7312) | Unincorporated Areas | November 10, 1999, November 17, 1999, Arizona Range News | The Honorable Mike Palmer, Chairman, Cochise County Board of Supervisors, 1415 West Melody Lane, Building B, Bisbee, Arizona 85603 | February 15, 2000 | 040012
Cochise (FEMA Docket No. 7312) | City of Wilcox | November 10, 1999, November 17, 1999, Arizona Range News | The Honorable Marlin Easthouse, Mayor, City of Wilcox, 101 South Railroad Avenue, Suite B, Willcox, Arizona 85643 | February 15, 2000 | 040018
Maricopa (FEMA Docket No. B-7312) | Town of Gilbert | October 20, 1999, October 27, 1999, The Tribune Newspapers | The Honorable Cynthia Dunham, Mayor, Town of Gilbert, 1025 South Gilbert Road, Gilbert, Arizona 85296 | September 28, 1999 | 040044
Graham (FEMA Docket No. 7312) | Unincorporated Areas | November 10, 1999, November 17, 1999, Eastern Arizona Courier | The Honorable Lynn Skinner, Chairman, Graham County Board of Supervisors, 921 Thatcher Boulevard, Safford, Arizona 85546 | February 15, 2000 | 040032
Pima (FEMA Docket No. 7312) | Town of Marana | October 8, 1999, October 15, 1999, Arizona Daily Star | The Honorable Ora Mae Harn, Mayor, Town of Marana, 13251 North Lon Adams Road, Marana, Arizona 85653 | August 31, 1999 | 040118
Maricopa (FEMA Docket No. 7312) | Unincorporated Areas | October 20, 1999, October 27, 1999, Arizona Republic | The Honorable Fulton Brock, Chairman, Maricopa County Board of Supervisors, 301 West Jefferson, 10th Floor, Phoenix, Arizona 85003 | September 28, 1999 | 040037
Maricopa (FEMA Docket No. 7312) | Unincorporated Areas | November 12, 1999, November 19, 1999, Arizona Republic | The Honorable Fulton Brock, Chairman, Maricopa County Board of Supervisors, 301 West Jefferson, 10th Floor, Phoenix, Arizona 85003 | February 17, 2000 | 040037
Maricopa (FEMA Docket No. 7312) | City of Mesa | October 20, 1999, October 27, 1999, Mesa Tribune | The Honorable Wayne Brown, Mayor, City of Mesa, P.O. Box 1466, Mesa, Arizona 85211-1466 | September 28, 1999 | 040048
Pima (FEMA Docket No. 7312) | Unincorporated Areas | October 8, 1999, October 15, 1999, The Arizona Daily Star | The Honorable Sharon Bronson, Chairperson, Pima County Board of Supervisors, 130 West Congress, 11th Floor, Tucson, Arizona 85701 | August 31, 1999 | 040073
Pima (FEMA Docket No. 7312) | Unincorporated Areas | November 10, 1999, November 17, 1999, The Arizona Daily Star | The Honorable Sharon Bronson, Chairperson, Pima County Board of Supervisors, 130 West Congress, 11th Floor, Tucson, Arizona 85701 | October 1, 1999 | 040073
Maricopa (FEMA Docket No. 7312) | Town of Queen Creek | October 20, 1999, October 27, 1999, Arizona Republic | The Honorable Mark Schnepf, Mayor, Town of Queen Creek, 22350 South Ellsworth Road, Queen Creek, Arizona 85242 | September 28, 1999 | 040132
Pima (FEMA Docket No. 7312) | Town of Sahuarita | November 10, 1999, November 17, 1999, Green Valley News & Sun | The Honorable Gordon Van Camp, Mayor, Town of Sahuarita, P.O. Box 879, Sahuarita, Arizona 85629 | October 1, 1999 | 040173
Santa Cruz (FEMA Docket No. 7312) | Unincorporated Areas | October 19, 1999, October 21, 1999, Nogales International | The Honorable Robert Damon, Chairperson, Santa Cruz County Board of Supervisors, 2150 North Congress Drive, Nogales, Arizona 85621 | September 21, 1999 | 040090
Yavapai (FEMA Docket No. 7312) | Unincorporated Areas | October 21, 1999, October 28, 1999, Prescott Courier | The Honorable A.G. “Chip” Davis, Chairman, Yavapai County Board of Supervisors, 10 South Sixth Street, Cottonwood, Arizona 86326 | January 26, 2000 | 040093
Arkansas:
Craighead (FEMA Docket No. 7312) | City of Jonesboro | October 8, 1999, October 15, 1999, The Jonesboro Sun | The Honorable Hubert Brodell, Mayor, City of Jonesboro, P.O. Box 1845, Jonesboro, Arkansas 72403-1845 | September 10, 1999 | 050048
Pulaski (FEMA Docket No. 7312) | City of Little Rock | November 4, 1999, November 11, 1999, Arkansas Democrat Gazette | The Honorable Jim Dailey, Mayor, City of Little Rock, City Hall, 500 West Markham Street, Room 203, Little Rock, Arkansas 72201 | September 30, 1999 | 050181
California:
Los Angeles (FEMA Docket No. 7312) | City of Calabasas | October 7, 1999, October 14, 1999, Los Angeles Daily News | The Honorable Robert Sibilia, Mayor, City of Calabasas, 26135 Mureau Road, Calabasas, California 91302 | September 2, 1999 | 060749
Riverside (FEMA Docket No. 7312) | City of Murrieta | November 16, 1999, November 23, 1999, The Californian | The Honorable Chuck Washington, Mayor, City of Murrieta, 26442 Beckman Court, Murrieta, CA 92562 | October 19, 1999 | 060751
Riverside (FEMA Docket No. 7312) | Unincorporated Areas | November 10, 1999, November 17, 1999, Press-Enterprise | The Honorable Roy Wilson Chairperson, Riverside County Board of Supervisors, County Administrative Center, 4080 Lemon Street, 14th Floor, Riverside, California 92501 | October 6, 1999 | 060245
San Diego (FEMA Docket No. 7312) | Unincorporated Areas | November 9, 1999, November 16, 1999, San Diego Union-Tribune | The Honorable Pam Slater, Chairwoman, San Diego County Board of Supervisors, 1600 Pacific Highway, Room 335, San Diego, California 92101 | February 14, 2000 | 060284
San Diego (FEMA Docket No. 7312) | City of Santee | November 9, 1999, November 16, 1999, San Diego Union-Tribune | The Honorable Jack Dale, Mayor, City of Santee, 10601 Magnolia Avenue, Santee, California 92071-1266 | February 14, 2000 | 060703
Colorado:
Arapahoe (FEMA Docket No. 7312) | Unincorporated Areas | November 4, 1999, November 11, 1999, The Villager | The Honorable Steve Ward, Chairman, Arapahoe County, Board of Commissioners, 5334 South Prince Street, Littleton, Colorado 80166 | October 12, 1999 | 080011
Arapahoe (FEMA Docket No. 7312) | Unicorporateed Areas | November 18, 1999, November 25, 1999, The Villager | The Honorable Steve Ward, Chairperson, Arapahoe County Board of Commissioners, 5334 South Prince Street, Littleton, Colorado 80166 | October 12, 1999 | 080011
Boulder (FEMA Docket NO. 7312) | Unincorporated Areas | November 9, 1999, November 16, 1999, Daily Camera | The Honorable Ron Stewart, Chairman, Boulder County Board of Commissioners, P.O. Box 471, Boulder, Colorado 80306-0471 | October 5, 1999 | 080023
Boulder (FEMA Docket No. 7312 | City of Boulder | November 12, 1999, November 19, 1999, Daily Camera | The Honorable Robert D. Greenlee, Mayor, City of Boulder, P.O. Box 791, Boulder, Colorado 80306-0791 | October 12, 1999 | 080024
Arapahoe (FEMA Docket No. 7312 | Town of Columbine Valley | November 4, 1999, November 11, 1999, The Littleton Independent | The Honorable James C. McShane, Mayor, Town of Columbine Valley, 5931 South Middlefield Road, Suite 101, Columbine Valley, Colorado 80123 | October 12, 1999 | 080014
Douglas (FEMA Docket No. 7312) | Unincorporated Areas | November 17, 1999, November 24, 1999 Douglas County News Press | The Honorable James Sullivan, Chairperson, Douglas County Board of Commissioners, 101 Third Street, Castle Rock, Colorado 80104 | October 12, 1999 | 080049
Boulder (FEMA Docket No. 7312) | City of Longmont | November 9, 1999, November 16, 1999, Longmont Daily Times-Call | The Honorable Leona Stoecker, Mayor, City of Longmont, 350 Kimbark Street, Longmont, Colorado 80501 | October 5, 1999 | 080027
Hawaii:
(FEMA Docket No. 7312) | City and County of Honolulu | October 19, 1999, October 26, 1999, Honolulu Star Bulletin | The Honorable Jeremy Harris, Mayor, City of Honolulu, Honolulu Hali, 530 South King Street, Honolulu, Hawaii 96813 | January 24, 2000 | 150001
Kansas:
Johnson (FEMA Docket No. 7312) | City of Overland Park | November 5, 1999, November 12, 1999, Overland Park Sun | The Honorable Ed Eiler, Mayor, City of Overland Park, City Hall, 8500 Santa Fe Drive, Overland Park, Kansas 66212 | October 12, 1999 | 200174
Missouri:
Jefferson (FEMA Docket No. 7312) | City of Crystal City | October 20, 1999, October 27, 1999, Suburban Journal | The Honorable Grant Johnston, Mayor, City of Crystal City, 130 Mississippi Avenue, Crystal City, Missouri 63019 | September 28, 1999 | 290189
Clay, Platte, and Jackson (FEMA Docket No. 7312) | City of Kansas City | October 12, 1999, October 19, 1999, Daily Record | The Honorable Kay Barnes, Mayor, City of Kansas City, 414 East 12th Street, 29th Floor, Kansas City, Missouri 64106 | September 8, 1999 | 290173
New Mexico:
Bernalillo (FEMA Docket No. 7312) | City of Albuquerque | November 3, 1999, November 10, 1999, Albuquerque Journal | The Honorable Jim Baca, Mayor, City of Albuquerque, P.O. Box 1293, Albuquerque, New Mexico 87103 | September 29, 1999 | 350002
Nevada:
Clark (FEMA Docket No. 7312) | Unincorporated Areas | October 14, 1999, October 21, 1999, Las Vegas Review-Journal | The Honorable Bruce Woodbury, Chairperson, Clark County Board of Commissioners, 500 Grand Central Parkway, Las Vegas, Nevada 89155 | January 19, 2000 | 320003
Clark (FEMA Docket No. 7312) | Unincorporated Areas | October 14, 1999, October 21, 1999, Las Vegas Review-Journal | The Honorable Bruce Woodbury, Chairperson, Clark County Board of Supervisors, P.O. Box 551601, Las Vegas, Nevada 89155-1601 | September 17, 1999 | 320003
Clark (FEMA Docket No. 7312) | City of Henderson | October 14, 1999, October 21, 1999, Las Vegas Review-Journal | The Honorable James Gibson, Mayor, City of Henderson, 240 South Water Street, Henderson, Nevada 89015 | Janauary 19, 2000 | 320005
Oklahoma:
Tulsa (FEMA Docket No. 7312) | City of Broken Arrow | October 22, 1999, October 29, 1999, Broken Arrow Ledger | The Honorable James Reynolds, Mayor, City of Broken Arrow, P.O. Box 610, Broken Arrow, Oklahoma 74013 | September 28, 1999 | 400236
Cleveland (FEMA Docket No. 7312) | City of Moore | October 22, 1999, October 29, 1999, Moore American | The Honorable Glenn Lewis, Mayor, City of Moore, 301 North Broadway, Moore, Oklahoma 73160 | September 24, 1999 | 400044
Texas:
Tarrant (FEMA Docket No. 7312) | City of Arlington | October 21, 1999, October 28, 1999, Fort Worth Star-Telegram | The Honorable Elzie Odom, Mayor, City of Arlington, P.O. Box 231, Arlington, Texas 76004-0231 | January 26, 2000 | 485454
Tarrant (FEMA Docket No. 7312) | City of Arlington | November 19, 1999, November 26, 1999, Fort Worth Star-Telegram | The Honorable Elzie Odom, Mayor, City of Arlington, P.O. Box 231, Arlington, Texas 76004-0231 | October 25, 1999 | 485454
Bexar (FEMA Docket No. 7312) | Unincorporated Areas | November 10, 1999, November 17, 1999, San Antonio Express-News | The Honorable Cyndi Taylor Krier, Bexar County Judge, Bexar County Courthouse, 100 Dolorosa, Suite 101, San Antonio, Texas 78205-3036 | October 12, 1999 | 480035
Brazos (FEMA Docket No. 7312) | City of College Station | November 9, 1999, November 16, 1999, Bryan and College Station Eagle | The Honorable Lynn McIlhaney, Mayor, City of College Station, P.O. Box 9960, College Station, Texas 77842-9960 | October 8, 1999 | 480083
Dallas (FEMA Docket No. 7312) | City of Dallas | October 12, 1999, October 19, 1999, Dallas Morning News | The Honorable Ron Kirk, Mayor, City of Dallas, City Hall, 1500 Marilla Street, Dallas, Texas 75201 | January 17, 2000 | 480171
Dallas (FEMA Docket No. 7312) | City of Dallas | October 14, 1999, October 21, 1999, Dallas Morning News | The Honorable Ron Kirk, Mayor, City of Dallas, City Hall, 1500 Marilla Street, Dallas, Texas 75201 | September 17, 1999 | 480171
Dallas (FEMA Docket No. 7312) | City of Dallas | November 16, 1999, November 23, 1999, Dallas Morning News | The Honorable Ron Kirk, Mayor, City of Dallas, City Hall, 1500 Marilla Street, Dallas, Texas 75201 | October 6, 1999 | 480171
Dallas (FEMA Docket No. 7312) | City of Garland | October 14, 1999, October 21, 1999, The Garland News | The Honorable Jim Spence, Mayor, City of Garland, P.O. Box 469002, Garland, Texas 75046-9002 | September 15, 1999 | 485471
Harris (FEMA Docket No. 7312) | Unincorporated Areas | November 3, 1999, November 10, 1999, Houston Chronicle | The Honorable Robert Eckels, Harris County Judge, 1001 Preston Street, Suite 911, Houston, Texas 77002 | September 29, 1999 | 480287
Hays (FEMA Docket No. 7312) | Unincorporated Areas | November 26, 1999, December 3, 1999, San Marcos Daily Record | The Honorable Eddy Etheredge, Hays County Judge, Hays County Courthouse, 111 East San Antonio Street, San Marcos, Texas 78666 | March 2, 2000 | 480321
Tarrant (FEMA Docket No. 7312) | City of Keller | October 6, 1999, October 13, 1999, Fort Worth Star-Telegram | The Honorable Dave Phillips, Mayor, City of Keller, P.O. Box 770, Keller, Texas 76244 | August 30, 1999 | 480602
Kendall (FEMA Docket No. 7312) | Unincorporated Areas | October 19, 1999, October 26, 1999, The Boerne Star | The Honorable Bill Gooden, Kendall County Judge, 201 East San Antonio Street, 120, Boerne, Texas 78006 | September 15, 1999 | 480417
Dallas (FEMA Docket No. 7312) | City of Lancaster | October 7, 1999, October 14, 1999, Lancaster Today | The Honorable Martha Wallace, Mayor, City of Lancaster, P.O. Box 940, Lancaster, Texas 75146-0940 | September 7, 1999 | 480182
Collin (FEMA Docket No. 7312) | City of Plano | October 13, 1999, October 20, 1999, Plano Star Courier | The Honorable John Longstreet, Mayor, City of Plano, P.O. Box 860358, Plano, Texas 75086-0358 | September 7, 1999 | 480140
Bexar (FEMA Docket No. 7312) | City of San Antonio | October 15, 1999, October 22, 1999, San Antonio Express-News | The Honorable Howard W. Peak, Mayor, City of San Antonio, P.O. Box 83996, San Antonio, Texas 78283-3966 | January 20, 2000 | 480045
California:
Santa Clara (FEMA Docket No. 7316) | City of Milpitas | December 3, 1999, December 10, 1999, San Jose Mercury News | The Honorable Henry Manayan, Mayor, City of Milpitas, 455 East Calaveras Boulevard, Milpitas California 95035 | November 2, 1999 | 060344
Sacramento (FEMA Docket No. 7316) | City of Sacramento | December 21, 1999, December 28, 1999, Sacramento Bee | The Honorable Joe Serna, Mayor, City of Sacramento, City Hall, 9151 I Street, Room 205, Sacramento, California 95814 | November 24, 1999 | 060266
Sacramento FEMA Docket No. 7316 | Unincorporated Areas | December 15, 1999, December 22, 1999, Sacramento Bee | The Honorable Muriel Johnson, Chairperson, Sacramento County Board of Supervisors, 700 H Street, Room 2450, Sacramento, California 95814 | March 21, 2000 | 060262
Sacramento (FEMA Docket No. 7316) | Unincorporated Areas | December 21, 1999, December 28, 1999, Sacramento Bee | The Honorable Muriel Johnson, Chairperson, Sacramento County Board of Supervisors, 700 H Street, Room 2450, Sacramento, California 95814 | November 24, 1999 | 060262
Colorado:
Boulder (FEMA Docket No. 7316) | City of Boulder | December 9, 1999, December 16, 1999, Daily Camera | The Honorable Robert D. Greenlee, Mayor, City of Boulder, P.O. Box 791, Boulder, Colorado 80306 | November 9, 1999 | 080024
Kansas:
Butler (FEMA Docket No. 7316) | Unincorporated Areas | November 26, 1999, December 3, 1999, El Dorado Times | The Honorable Linsey Cutsinger, Butler County Commissioner Chair, Butler County Courthouse, 205 West Central Avenue, Fourth Floor, El Dorado, Kansas 67042 | March 2, 2000 | 200037
Missouri:
St. Louis (FEMA Docket No. 7316) | City of Chesterfield | December 14, 1999, December 21, 1999, St. Louis Countian | The Honorable Nancy Greenwood, Mayor, City of Chesterfield, 16052 Swingley Ridge Road, Suite 100, Chesterfield, Missouri 63017 | November 24, 1999 | 290896
Nevada:
Clark (FEMA Docket No. 7316) | City of Las Vegas | December 8, 1999, December 15, 1999, Las Vegas Review Journal | The Honorable Oscar Goodman, Mayor, City of Las Vegas, 400 East Stewart Avenue, Las Vegas, Nevada 89101 | November 2, 1999 | 325276
Oregon:
Marion (FEMA Docket No. 7316) | Unincorporated Areas | December 2, 1999, December 9, 1999, Statesman Journal | The Honorable Patti Milne, Chairman, Marion County Board of Supervisors, County Courthouse, 100 High Street Northeast, Salem, Oregon 97301 | November 9, 1999 | 410154
Texas:
Collin (FEMA Docket No. 7316) | City of Allen | December 8, 1999, December 15, 1999, Allen American | The Honorable Steve Terrell, Mayor, City of Allen, One Butler Circle, Allen, Texas 75013 | November 2, 1999 | 480131
Tarrant (FEMA Docket No. 7316) | City of Arlington | December 3, 1999, December 10, 1999, Fort Worth Star-Telegram | The Honorable Elzie Odom, Mayor, City of Arlington, P.O. Box 231, Arlington, Texas 76004-0231 | November 3, 1999 | 485454
Denton (FEMA Docket No. 7316) | Town of Cooper Canyon | December 22, 1999, December 29, 1999, Lewisville News | The Honorable Thomas A. Rogers, Mayor, Town of Copper Canyon, City Hall, 400 Woodland Drive, Copper Canyon, Texas 75067-8501 | March 28, 2000 | 481508
Dallas (FEMA Docket No. 7316) | City of Dallas | November 30, 1999, December 7, 1999, Dallas Morning News | The Honorable Ronald Kirk, Mayor, City of Dallas, City Hall, 1500 Marilla Street, Room 5EN, Dallas, Texas 75201 | November 1, 1999 | 480171
Denton (FEMA Docket No. 7316) | Town of Flower Mound | December 22, 1999, December 29, 1999, Lewisville News | The Honorable Lori DeLuca, Mayor, Town of Flower Mound, Town Hall, 2121 Cross Timbers Drive, Flower Mound, Texas 75028 | November 29, 1999 | 480777
Denton (FEMA Docket No. 7316) | City of Highland Village | December 22, 1999, December 29, 1999, Lewisville News | The Honorable Austin Adams, Mayor, City of Highland Village, City Hall, 1800 FM 407, Highland, Texas 75077 | March 28, 2000 | 481105
Montgomery (FEMA Docket No. 7316) | Unincorporated Areas | December 20, 1999, December 27, 1999, Conroe Courier | The Honorable Alan Sadler, Montgomery County Judge, 301 North Thompson Street, Suite 210, Conroe, Texas 77301 | November 29, 1999 | 480483
Hays (FEMA Docket No. 7316) | City of San Marcos | November 26, 1999, December 3, 1999, San Marcos Daily Record | The Honorable Billy Moore, Mayor, City of San Marcos, City Hall, 630 East Hopkins Street, San Marcos, Texas 78666 | March 2, 2000 | 485505
Fort Bend (FEMA Docket No. 7316) | Unincorporated Areas | December 15, 1999, December 22, 1999, Herald Coaster | The Honorable James C. Adolphus, Fort Bend County Judge, 301 Jackson Street, Suite 719, Richmond, Texas 77469 | November 5, 1999 | 480228
Collin (FEMA Docket No. 7316) | City of Frisco | December 3, 1999, December 10, 1999, Frisco Enterprise | The Honorable Kathy Seei, Mayor, City of Frisco, P.O. Box 1100, Frisco, Texas 75034 | March 9, 2000 | 480134
Dallas (FEMA Docket No. 7316) | City of Garland | November 18, 1999, November 25, 1999, Garland News | The Honorable Jim Spence, Mayor, City of Garland, 200 North Fifth Street, Garland, Texas 75040 | October 12, 1999 | 485471
Dallas (FEMA Docket No. 7316) | City of Garland | November 18, 1999, November 25, 1999, Garland News | The Honorable Jim Spence, Mayor, City of Garland, P.O. Box 469002, Garland, Texas 75046-9002 | February 23, 2000 | 485471
Cameron (FEMA Docket No. 7316) | Town of South Padre Island | November 18, 1999, November 25, 1999, Port Isable and South Padre Press | The Honorable Edmund Cyganiewicz, Mayor, Town of South Padre Island, 4501 Padre Boulevard, South Padre Island, Texas 78597 | October 12, 1999 | 480115
Utah:
Davis (FEMA Docket No. 7316) | Unincorporated Areas | December 2, 1999, December 9, 1999, Davis County Clipper | The Honorable Dannie McConkie, Chairman, Davis County Board of Supervisors, P.O. Box 618, Farmington, Utah 84025 | October 26, 1999 | 490038
Davis (FEMA Docket No. 7316) | City of Kaysville | December 2, 1999, December 9, 1999, Davis County Clipper | The Honorable Brian Cook, Mayor, City of Kaysville, 23 East Center Street, Kaysville, Utah 84037 | October 26, 1999 | 490046
Arizona:
Pima (FEMA Docket No. 7320) | Unincorporated Areas | January 20, 2000, January 27, 2000, The Arizona Daily Star | The Honorable Sharon Bronson, Chairperson, Pima County Board of Supervisors, 130 West Congress, 11th Floor, Tucson, Arizona 85701 | April 26, 2000 | 040073
Colorado:
Arapahoe (FEMA Docket No. 7320) | Unincorporated Areas | February 3, 2000, February 10, 2000, The Villager | The Honorable Steve Ward, Chairman, Arapahoe County Board of Commissioners, 5334 South Prince Street, Littleton, Colorado 80166-0060 | January 6, 2000 | 080011
El Paso (FEMA Docket No. 7320) | City of Colorado Springs | January 4, 2000, January 11, 2000, Gazette Telegraph | The Honorable Mary Lou Makepeace, Mayor, City of Colorado Springs, P.O. Box 1575, Colorado Springs, Colorado 80901-1575 | December 14, 1999 | 080060
Jefferson (FEMA Docket No. 7320) | Unincorporated Areas | January 19, 2000, January 26, 2000, Columbine Community Charter | The Honorable Michelle Lawrence, Chairperson, Jefferson County Board of Commissioners, 100 Jefferson County Parkway, Suite 5550, Golden, Colorado 80419 | December 22, 1999 | 080087
Larimer (FEMA Docket No. 7320) | City of Fort Collins | January 26, 2000, February 2, 2000, The Coloradoan | The Honorable Ray Martinez, Mayor, City of Fort Collins, P.O. Box 580, Fort Collins, Colorado 80522-0580 | December 22, 1999 | 080102
Larimer (FEMA Docket No. 7320) | Unincorporated Areas | January 26, 2000, February 2, 2000, The Coloradoan | The Honorable Cheryl Olson, Chairperson, Larimer County Board of Commissioners, P.O. Box 1190, Fort Collins, Colorado 80522-1190 | December 22, 1999 | 080101
Hawaii:
Hawaii (FEMA Docket No. 7320) | Hawaii | February 2, 2000, February 9, 2000, West Hawaii Today | The Honorable Stephen K. Yamashiro, Mayor, Hawaii County, 25 Aupuni Street, Room 202, Hilo, Hawaii 96720-4252 | January 6, 2000 | 155166
Missouri:
Butler (FEMA Docket No. 7320) | Unincorporated Areas | January 24, 2000, January 31, 2000, Daily American Republic | The Honorable Joe Humphrey, Commissioner, Butler County, Butler County Courthouse, Room 203, Poplar Bluff, Missouri 63901 | January 27, 2000 | 290044
St. Louis (FEMA Docket No. 7320 | City of Chesterfield | January 11, 2000, January 18, 2000, St. Louis Countian | The Honorable Nancy Greenwood, Mayor, City of Chesterfield, 16052 Swingley Ridge Road, Suite 100, Chesterfield, Missouri 63017 | April 17, 2000 | 290896
Butler (FEMA Docket No. 7320) | City of Poplar Bluff | January 24, 2000, January 31, 2000, American Republic | The Honorable Reid Forrester, Mayor, City of Poplar Bluff, City Hall, 101 Oak Street, Poplar Bluff, Missouri 63901 | December 27, 1999 | 290047
Pemiscot (FEMA Docket No. 7320) | City of Steele | February 3, 2000, February 10, 2000, The Steele Enterprise | The Honorable Keith Samford, Mayor, City of Steele, 115 South Walnut Street, Steele, Missouri 63877 | December 20, 1999 | 290279
St. Louis (FEMA Docket No. 7320) | City of Wildwood | January 11, 2000, January 18, 2000, St. Louis Countian | The Honorable R. W. Marcantano, Mayor, City of Wildwood, 16962 Manchester Road, Wildwood, Missouri 63040 | April 17, 2000 | 290922
New Mexico:
Sandoval (FEMA Docket No. 7320) | Town of Bernalillo | January 24, 2000, January 31, 2000, Albuquerque Jounal | The Honorable Charles Aguilar, Mayor, Town of Bernalillo, P.O. Box 638, Bernalillo, New Mexico 87004 | December 14, 1999 | 350056
Sandoval (FEMA Docket No. 7320) | City of Rio Rancho | January 24, 2000, January 31, 2000, Albuquerque Journal | The Honorable John Jennings, Mayor, City of Rio Rancho, P.O. Box 15550, Rio Rancho, New Mexico 87174 | December 14, 1999 | 350146
Sandoval (FEMA Docket No. 7320) | Unincorporated Areas | January 24, 2000, January 31, 2000, Albuquerque Journal | Ms. Debbie Hays, County Manager, Sandoval County, P.O. Box 40, Bernalillo, New Mexico 87004 | December 14, 1999 | 350055
Texas:
Dallas (FEMA Docket No. 7320) | City of Dallas | December 28, 1999, January 4, 2000, Dallas Morning News | The Honorable Ron Kirk, Mayor, City of Dallas, City Hall, 1500 Marilla Street, Dallas, Texas 75201 | December 2, 1999 | 480171
Dallas (FEMA Docket No. 7320) | City of Dallas | January 5, 2000, January 12, 2000, Dallas Morning News | The Honorable Ron Kirk, Mayor, City of Dallas, City Hall, 1500 Marilla, Dallas, Texas 75201 | December 15, 1999 | 480171
Dallas (FEMA Docket No. 7320) | City of Dallas | January 17, 2000, January 24, 2000, Dallas Morning News | The Honorable Ron Kirk, Mayor, City of Dallas, City Hall, 1500 Marilla, Dallas, Texas 75201 | December 20, 1999 | 480171
Tarrant (FEMA Docket No. 7320) | City of Euless | January 24, 2000, January 31, 2000, Fort Worth Star-Telegram | The Honorable Mary Lib Saleh, Mayor, City of Euless, 201 North Ector Drive, Euless, Texas 76039 | December 22, 1999 | 480593
Tarrant (FEMA Docket No. 7320) | City of Fort Worth | January 24, 2000, January 31, 2000, Fort Worth Star-Telegram | The Honorable Kenneth Barr, Mayor, City of Fort Worth, 1000 Throckmorton Street, Fort Worth, Texas 76102 | December 22, 1999 | 480596
Harris (FEMA Docket No. 7320) | Unincorporated Areas | December 28, 1999, January 4, 2000, Houston Chronicle | The Honorable Robert Eckels, Harris County Judge, 1001 Preston Street, Suite 911, Houston, Texas 77002 | December 15, 1999 | 480287
Harris (FEMA Docket No. 7320) | Unincorporated Areas | December 28, 1999, January 4, 2000, Houston Chronicle | The Honorable Robert Eckels, Harris County Judge, 1001 Preston Street, Suite 911, Houston, Texas 77002 | April 3, 2000 | 480287
Bexar (FEMA Docket No. 7320) | Town of Hollywood Park | January 5, 2000, January 12, 2000, San Antonio Express-News | The Honorable Gary Mercer, Mayor, Town of Hollywood Park, Two Mecca Drive, Hollywood Park, Texas 78232 | April 11, 2000 | 480040
Midland (FEMA Docket No. 7320) | City of Midland | January 4, 2000, January 11, 2000, Midland Reporter-Telegram | The Honorable Robert Burns, Mayor, City of Midland, P.O. Box 1152, Midland, Texas 79702-1152 | December 7, 1999 | 480477
Bexar (FEMA Docket No. 7320) | City of San Antonio | February 4, 2000, February 11, 2000, San Antonio Express-News | The Honorable Howard W. Peak, Mayor, City of San Antonio, P.O. Box 839966, San Antonio, Texas 78283-3966 | May 11, 2000 | 480045
Bexar (FEMA Docket No. 7320) | City of San Antonio | January 5, 2000, January 12, 2000, San Antonio Express-News | The Honorable Howard W. Peak, Mayor, City of San Antonio, P.O. Box 839966, San Antonio, Texas 78283-3966 | April 11, 2000 | 480045
Bexar (FEMA Docket No. 7320) | City of Shavano Park | January 5, 2000 January 12, 2000, San Antonio Express-News | The Honorable Tommy Peyton, Mayor, City of Shavano Park, 99 Saddletree Road, San Antonio, Texas 78231 | April 11, 2000 | 480047
California:
Orange (FEMA Docket No. 7324) | City of Anaheim | January 20, 2000, January 27, 2000, Anaheim Bulletin | The Honorable Tom Daly, Mayor, City of Anaheim, P.O. Box 3222, Anaheim, California 92803 | January 13, 2000 | 060213
Orange (FEMA Docket No. 7324) | City of Irvine | January 31, 2000, February 7, 2000, Orange County Register | The Honorable Christina Shea, Mayor, City of Irvine, P.O. Box 19575, Irvine, California 92623-9575 | December 29, 1999 | 060222
Orange (FEMA Docket No. 7324) | City of Irvine | February 24, 2000, March 2, 2000, The Irvine World News | The Honorable Christina Shea, Mayor, City of Irvine, P.O. Box 19575, Irvine, California 92623-9575 | January 27, 2000 | 060222
Los Angeles (FEMA Docket No. 7324) | City of Santa Clarita | February 17, 2000, February 24, 2000, The Signal | The Honorable Joanne Darcy, Mayor, City of Santa Clarita, 23920 Valencia Boulevard, Suite 300, Santa Clarita, California 91355 | January 18, 2000 | 060729
Orange (FEMA Docket No. 7324) | City of Tustin | January 31, 2000, February 7, 2000, Orange County Register | Mr. Thomas Saltarelli, Mayor, City of Tustin, 300 Centennial Way, Tustin, California 92780 | December 29, 1999 | 060235
Colorado:
Arapahoe (FEMA Docket No. 7324) | Unincorporated Areas | February 10, 2000, February 17, 2000, The Villager | The Honorable Steve Ward, Chairman, Arapahoe County Board of Commissioners, 5334 South Prince Street, Littleton, Colorado 80166-0060 | May 17, 2000 | 080011
Boulder (FEMA Docket No. 7324) | City of Louisville | February 23, 2000, March 1, 2000, Louisville Times | The Honorable Tom Davidson, Mayor, City of Louisville, 749 Main Street, Louisville, Colorado 80027 | January 19, 2000 | 085076
Idaho:
Blaine (FEMA Docket No. 7324) | City of Bellevue | February 9, 2000, February 16, 2000, Wood River Journal | The Honorable Steve Fairbrother, Mayor, City of Bellevue, P.O. Box 449, Bellevue, Idaho 83313 | January 4, 2000 | 160021
Blaine (FEMA Docket No. 7324) | Unincorporated Areas | February 9, 2000, February 16, 2000, Wood River Journal | The Honorable Mary Ann Mix, Chairperson, Blaine County Board of Commissioners, 206 First Avenue South, Suite 300, Hailey, Idaho 83333 | January 4, 2000 | 165167
Kansas:
Miami (FEMA Docket No. 7324) | City of Paola | February 23, 2000, March 1, 2000, Miami County Republic | The Honorable Floyd J. Grimes, Mayor, City of Paola, 19 East Teoria, Paola, Kansas 66071 | May 30, 2000 | 200224
Nebraska:
Colfax (FEMA Docket No. 7324) | Village of Howells | February 23, 2000, March 1, 2000, Howells Journal | The Honorable Larry Jakubowski, Chairperson, Village of Howells Board of Commissioners, 128 North Third Street, Howells, Nebraska 68641-0351 | May 30, 2000 | 310380
Nevada:
Clark (FEMA Docket No. 7324) | Unincorporated Areas | February 17, 2000, February 24, 2000, Las Vegas Review-Journal | The Honorable Bruce Woodbury, Chairperson, Clark County Board of Commissioners, P.O. Box 551601, Law Vegas, Nevada 89155 | January 7, 2000 | 32003
New Mexico:
Bernalillo (FEMA Docket No. 7324) | Unincorporated Areas | February 25, 2000, March 3, 2000, Albuquerque Journal | The Honorable Tom Rutherford, Chairperson, Board of Commissioners, Bernalillo County, 2400 Broadway Southeast, Albuquerque, New Mexico 87102 | January 19, 2000 | 350001
Oklahoma:
Stephens (FEMA Docket No. 7324) | City of Duncan | February 7, 2000, February 14, 2000, The Duncan Banner | The Honorable Dennis Johnson, Mayor, City of Duncan, P.O. Box 969, Duncan, Oklahoma 73534 | December 29, 1999 | 400202
Tulsa (FEMA Docket No. 7324) | City of Tulsa | February 24, 2000, March 2, 2000, Tulsa World | The Honorable M. Susan Savage, Mayor, City of Tulsa, City Hall, 200 Civic Center, Tulsa, Oklahoma 74103 | May 31, 2000 | 405381
Texas:
Tarrant (FEMA Docket No. 7324) | City of Bedford | February 23, 2000, March 1, 2000, Fort Worth Star-Telegram | The Honorable Rick Hurt, Mayor, City of Bedford, 2000 Forest Ridge Drive, Bedford, Texas 76021 | January 24, 2000 | 480585
Bexar (FEMA Docket No. 7324) | Unincorporated Areas | February 15, 2000, February 22, 2000, San Antonio Express-News | The Honorable Cyndi Taylor Krier, Bexar County Judge, Bexar County Courthouse, 100 Dolorosa, Suite 101, San Antonio, Texas 78205-3036 | January 7, 2000 | 480035
Dallas (FEMA Docket No. 7324) | City of Carrolton | February 11, 2000, February 18, 2000, Metrocrest News | The Honorable Milburn Gravely, Mayor, City of Carrolton, P.O. Box 110535, Carrollton, Texas 75011-0535 | January 7, 2000 | 480167
Dallas (FEMA Docket No. 7324) | City of Dallas | February 7, 2000, February 14,2000, Dallas Morning News | The Honorable Ron Kirk, Mayor, City of Dallas, City Hall, 1500 Marilla, Dallas, Texas 75201 | May 15, 2000 | 480171
Tarrant (FEMA Docket No. 7324) | City of Euless | February 23, 2000, March 1, 2000, Fort Worth Star-Telegram | The Honorable Mary Lib Saleh, Mayor City of Euless, 201 North Ector Drive, Euless, Texas 76039 | January 24, 2000 | 480593
Tarrant (FEMA Docket No. 7324) | City of Fort Worth | February 29, 2000, March 7, 2000, Fort Worth Star-Telegram | The Honorable Kenneth Barr, Mayor, City of Fort Worth, City Hall, 1000 Throckmorton Street, Fort Worth, Texas 76102-6311 | January 24, 2000 | 480596
Tarrant (FEMA Docket No. 7324) | City of North Richland Hills | February 8, 2000, February 15, 2000, Fort Worth Star-Telegram | The Honorable Charles Scoma, Mayor, City of North Richland Hills, P.O. Box 820609, North Richland Hills, Texas 76182-0609 | January 11, 2000 | 480607
Tarrant City (FEMA Docket No. 7324) | City of Saginaw | February 29, 2000, March 7, 2000, Fort Worth Star-Telegram | The Honorable Monte Nichols, Mayor, City of Saginaw, P.O. Box 79070, Saginaw, Texas 76179 | January 24, 2000 | 480610
Bexar (FEMA Docket No. 7324) | City of San Antonio | February 25, 2000, March 3, 2000, San Antonio Express-News | The Honorable Howard W. Peak, Mayor, City of San Antonio, P.O. Box 839966, San Antonio, Texas 78283-3966 | January 24, 2000 | 480045
Arizona:
Maricopa (FEMA Docket No. 7328) | Unincorporated Areas | March 24, 2000, March 31, 2000, Arizona Republic | The Honorable Andrew Kunasek, Chairperson, Maricopa County, Board of Supervisors, 301 West Jefferson, 10th Floor, Phoenix, Arizona 85003 | February 23, 2000 | 040037
Maricopa (FEMA Docket No. 7328) | Unincorporated Areas | May 17, 2000, May 24, 2000, Arizona Republic | The Honorable Andrew Kunasek, Chairperson, Maricopa County, Board of Supervisors, 301 West Jefferson, 10th Floor, Phoenix, Arizona 85003 | April 20, 2000 | 040037
Maricopa (FEMA Docket No. 7328) | City of Avondale | May 17, 2000, May 24, 2000, Arizona Republic | The Honorable Ron Drake, Mayor, City of Avondale, 525 North Central Avenue, Avondale, Arizona 85323 | April 20, 2000 | 040038
Maricopa (FEMA Docket No. 7328) | City of Avondale | March 24, 2000, March 31, 2000, Arizona Republic | The Honorable Thomas F. Morales, Jr., Mayor, City of Avondale, 525 North Central Avenue, Avondale, Arizona 85323 | February 23, 2000 | 040038
Maricopa (FEMA Docket No. 7328) | Town of Buckeye | May 17, 2000, May 24, 2000, Arizona Republic | The Honorable Dusty Hull, Mayor, Town of Buckeye, 100 North Apache Road, Suite A, Buckeye, Arizona 85236 | April 20, 2000 | 040039
Maricopa (FEMA Docket No. 7328) | City of Goodyear | May 17, 2000, May 24, 2000, Arizona Republic | The Honorable William O. Arnold, Mayor, City of Goodyear, 119 North Litchfield Road, Goodyear, Arizona 85338 | April 20, 2000 | 040046
Maricopa (FEMA Docket No. 7328) | City of Mesa | May 17, 2000, May 24, 2000, Arizona Republic | The Honorable Wayne Brown, Mayor, City of Mesa, P.O. Box 1466, Mesa, Arizona 85211 | April 20, 2000 | 040048
Maricopa (FEMA Docket No. 7328) | City of Phoenix | May 17, 2000, May 24, 2000, The Arizona Republic | The Honorable Skip Rimsza, Mayor, City of Phoenix, 200 West Washington Street, 11th Floor, Phoenix, Arizona 85003 | April 20, 2000 | 040051
Maricopa (FEMA Docket No. 7328) | City of Tempe | May 17, 2000, May 24, 2000, The Arizona Republic | The Honorable Neil G. Giuliano, Mayor, City of Tempe, Tempe City Hall, P.O. Box 5002, Tempe, Arizona 85281 | April 20, 2000 | 040054
Maricopa (FEMA Docket No. 7328) | City of Phoenix | March 24, 2000, March 31, 2000, The Arizona Republic | The Honorable Skip Rimsza, Mayor, City of Phoenix, 200 West Washington, 11th Floor, Phoenix, Arizona 85003 | February 23, 2000 | 040051
Maricopa (FEMA Docket No. 7328) | City of Tolleson | March 24, 2000, March 31, 2000, The Arizona Republic | The Honorable Adolfo Gamez, Mayor, City of Tolleson, 9555 West Van Buren, Tolleson, Arizona 85353 | February 23, 2000 | 040055
Navajo (FEMA Docket No. 7328) | Unincorporated Areas | May 17, 2000, May 24, 2000, Holbrook Tribune News | The Honorable Tommy Thompson, Chairperson, Navajo County, Board of Supervisors, P.O. Box 668, Holbrook, Arizona 86025 | April 20, 2000 | 040066
California:
Los Angeles (FEMA Docket No. 7328) | City of Carson | March 16, 2000, March 23, 2000 Daily Breeze | The Honorable Peter Fajardo, Mayor, City of Carson, 701 East Carson Street, Carson, California 90749 | February 25, 2000 | 060107
Los Angeles (FEMA Docket No. 7328) | City of Compton | March 15, 2000, March 22, 2000, Compton Bulletin | The Honorable Omar Bradley, Mayor, City of Compton, 205 South Willowbrook Avenue, Compton, California 90220 | February 25, 2000 | 060111
Los Angeles (FEMA Docket No. 7328) | City of Lakewood | March 16, 2000, March 23, 2000, Press-Telegram | The Honorable Joseph Esquivel, Mayor, City of Lakewood, 5050 Clark Avenue, Lakewood, California 90712 | February 25, 2000 | 060130
Los Angeles (FEMA Docket No. 7328) | City of Los Angeles | March 16, 2000, March 23, 2000, Los Angeles Times | The Honorable Richard Riordan, Mayor, City of Los Angeles, 200 North Main Street, Room 800, Los Angeles, California 90012 | February 25, 2000 | 060137
Los Angeles (FEMA Docket No. 7328) | City of Long Beach | March 16, 2000, March 23, 2000, Press-Telegram | The Honorable Beverly O'Neill, Mayor, City of Long Beach, 333 West Ocean Boulevard, Long Beach, California 90802 | February 25, 2000 | 060136
Sacramento (FEMA Docket Sacramento No. 7328) | City of Folsom | June 28, 2000, July 5, 2000, The Folsom Telegraph | The Honorable Stephen Miklos, Mayor, City of Folsom, 50 Natoma Street, Folsom, California 95630 | June 8, 2000 | 060263
San Joaquin (FEMA Docket No. 7328) | City of Stockton | May 26, 2000, June 2, 2000, The Record | The Honorable Gary Podesto, Mayor, City of Stockton, 425 North El Dorado Street, Stockton, California 95202 | May 10, 2000 | 060302
Los Angeles (FEMA Docket No. 7328) | City of Santa Clarita | June 5, 2000, June 12, 2000, The Signal | The Honorable Jo Anne Darcy, Mayor, City of Santa Clarita, 23920 Valencia Boulevard, Suite 300, Santa Clarita, California 91355 | May 15, 2000 | 060729
San Diego (FEMA Docket No. 7328) | City of Lemon Grove | May 3, 2000, May 10, 2000, Lemon Grove Review | The Honorable Mary Sessom, Mayor, City of Lemon Grove, 3232 Main Street, Lemon Grove, California 91945 | March 27, 2000, | 060723
Los Angeles (FEMA Docket No. 7328) | City of Gardena | March 16, 2000, March 23, 2000, Gardena Valley News | The Honorable Donald L. Dear, Mayor, City of Gardena, P. O. Box 47003 Gardena, California 90247-6803 | February 25, 2000 | 060119
San Diego (FEMA Docket No. 7328) | City of Escondido | March 10, 2000, March 17, 2000, North County Times | The Honorable Lori Pfeiler, Mayor, City of Escondido, 201 North Broadway, Escondido, California 92025 | January 31, 2000 | 060290
San Diego (FEMA Docket No. 7328) | Unincorporated Areas | May 9, 2000, May 16, 2000, San Diego Union Tribune | The Honorable Dianne Jacob, Chairperson, San Diego County, Board of Supervisors, 1600 Pacific Highway, Room 335, San Diego, California 92101 | April 3, 2000 | 060284
San Diego (FEMA Docket No. 7328) | City of San Diego | March 10, 2000, March 17, 2000, San Diego Daily Transcript | The Honorable Susan Golding, Mayor, City of San Diego, 202 C Street, 11th Floor, San Diego, California 92101 | January 31, 2000 | 060295
Riverside (FEMA Docket No. 7328) | City of Hemet | March 24, 2000, March 31, 2000, The Hemet News | The Honorable Lori VanArsdale, Mayor, City of Hemet, 450 East Latham Avenue, Hemet, California 92543 | February 18, 2000 | 060253
Riverside, (FEMA Docket No. 7328) | Unincorporated Areas | March 24, 2000, March 31, 2000, The Helmet News | The Honorable Tom Mullen, Chairperson, Riverside County, Board of Supervisors, 4080 Lemon Street, 14th Floor, Riverside, California 92501 | February 18, 2000 | 060245
San Diego, (FEMA Docket No. 7328) | City of Chula Vista | March 18, 2000, March 25, 2000, Star News | The Honorable Shirley Horton, Mayor, City of Chula Vista, City Hall, 276 Fourth Avenue, Chula Vista, California 91910 | February 15, 2000 | 065021
Colorado:
Arapahoe , (FEMA Docket No. 7328) | Unincorporated Areas | March 23, 2000, March 30, 2000, The Villager | The Honorable Steve Ward, Chairman, Arapahoe County, Board of Commissioners, 5334 South Prince Street, Littleton, Colorado 80166 | June 29, 2000 | 080011
Arapahoe (FEMA Docket No. 7328) | City of Greenwood Village | March 23, 2000, March 30, 2000, The Villager | The Honorable David Phifer, Mayor, City of Greenwood Village, 6060 South Quebec Street, Greenwood Village, Colorado 80111 | June 29, 2000 | 080195
Douglas (FEMA Docket No. 7328) | City of Littleton | March 23, 2000, March 30, 2000, The Littleton Independent | The Honorable Susan Thornton, Mayor, City of Littleton, 2255 West Berry Avenue, Littleton, Colorado 80165 | June 29, 2000 | 080017
Douglas (FEMA Docket No. 7328) | Unincorporated Areas | March 22, 2000, March 29, 2000, Douglas County News Press | The Honorable James Sullivan, Chairperson, Douglas County Board of Commissioners, 100 Third Street, Castle Rock, Colorado 80104 | June 29, 2000 | 080049
Adams (FEMA Docket No. 7328) | City of Federal Heights | June 5, 2000, June 12, 2000, Denver Rocky Mountain News | The Honorable Phil Stewart, Mayor, City of Federal Heights, 2380 West 90th Avenue, Federal Heights, Colorado 80221 | September 11, 2000 | 080240
Arapahoe (FEMA Docket No. 7328) | City of Englewood | March 24, 2000, March 31, 2000, The Englewood Herald | The Honorable Tom Burns, Mayor, City of Englewood 3400 South Elati Street, Englewood, Colorado 80110 | June 29, 2000 | 085074
Adams (FEMA Docket No. 7328) | City of Westminster | March 10, 2000, March 17, 2000, Denver Post | The Honorable Nancy M. Heil, Mayor, City of Westminster, 4800 West 92nd Avenue, Westminster, Colorado 80030 | February 1, 2000 | 080008
Jefferson (FEMA Docket No. 7328) | Unincorporated Areas | March 1, 2000, March 8, 2000, Columbine Community Courier | The Honorable Richard Sheehan, Chairperson, Jefferson County, Board of Commissioners, 100 Jefferson County Parkway, Suite 5550, Golden, Colorado 80419 | January 31, 2000 | 080087
Iowa:
Black Hawk (FEMA Docket No. 7328) | City of Waterloo | March 29, 2000, April 5, 2000, Waterloo Courier | The Honorable John R. Rooff, Mayor, City of Waterloo, City Hall, 715 Mulberry Street, Waterloo, Iowa 50703 | February 22, 2000 | 190025
Kansas:
Johnson (FEMA Docket No. 7328) | City of DeSoto | May 4, 2000, May 11, 2000, DeSoto Explorer | The Honorable Steven Pruden, Mayor, City of DeSoto, P.O. Box C, DeSoto, Kansas 66018 | August 10, 2000 | 200161
Johnson (FEMA Docket No. 7328) | Unincorporated Areas | May 5, 2000, May 12, 2000, The Johnson County Sun | The Honorable Michael B. Press, Interim County Administrator, Johnson County, 111 South Cherry, Suite 3300, Olathe, Kansas 66061-3441 | August 10, 2000 | 200159
Sedgwick (FEMA Docket No. 7328) | City of Wichita | April 6, 2000, April 13, 2000, Wichita Eagle | The Honorable Bob Knight, Mayor, City of Wichita, City Hall, First Floor, 455 North Main Street, Wichita, Kansas 67202 | July 12, 2000 | 200328
Sedgwick (FEMA Docket No. 7328) | Unincorporated Areas | April 18, 2000, April 25, 2000, Wichita Eagle | The Honorable William Hancock, Chairperson, Sedgwick County, Board of Commissioners, 1144 South Seneca, Wichita, Kansas 67213 | July 24, 2000 | 200321
Louisiana:
Lafayette Parish (FEMA Docket No. 7328) | Unincorporated Areas | April 21, 2000, April 28, 2000, The Advertiser | The Honorable Walter S. Comeaux, Lafayette Parish President, P.O. Box 4017-C, Lafayette, Louisiana 70501-0417 | March 9, 2000 | 220101
Nevada:
Clark (FEMA Docket No. 7328) | Unincorporated Areas | April 19, 2000, April 26, 2000, Las Vegas Review-Journal | The Honorable Bruce Woodbury, Chairperson, Clark County, Board of Commissioners, 500 Grand Central Parkway, Las Vegas, Nevada 89155 | March 21, 2000 | 320003
Clark (FEMA Docket No. 7328) | City of Henderson | April 19, 2000, April 26, 2000, Las Vegas Review-Journal | The Honorable James Gibson, Mayor, City of Henderson, 240 South Water Street, Henderson, Nevada 89015 | March 21, 2000 | 320015
Washoe (FEMA Docket No. 7328) | City of Sparks | March 21, 2000, March 28, 2000, Reno Gazette-Journal | The Honorable Tony Armstrong, Mayor, City of Sparks, P.O. Box 857, Sparks, Nevada 89432-0857 | February 10, 2000 | 320021
New Mexico:
Bernalillo (FEMA Docket No. 7328) | City of Albuquerque | May 5, 2000, May 12, 2000, Albuquerque Journal | The Honorable Jim Baca, Mayor, City of Albuquerque, P.O. Box 1293, Albuquerque, New Mexico 87103 | March 21, 2000 | 350002
Texas:
Bexar (FEMA Docket No. 7328) | Unincorporated Areas | March 21, 2000, March 28, 2000, San Antonio Express-News | The Honorable Cyndi Taylor Krier, Bexar County Judge, Bexar County Courthouse, 100 Dolorosa, Suite 100, San Antonio, Texas 78205-3036 | February 11, 2000 | 480035
Burleson (FEMA Docket No. 7328) | City of Somerville | March 2, 2000, March 9, 2000, Burleson County Citizen-Tribune | The Honorable Don Strickland, Mayor, City of Somerville, P.O. Box 159, Somerville, Texas 77879-0159 | February 2, 2000 | 480091
Dallas (FEMA Docket, No. 7328) | City of Irving | March 9, 2000, March 16, 2000, The Irving News | The Honorable Joe H. Putnam, Mayor, City of Irving, P.O. Box 152288, Irving, Texas 75015-2288 | February 2, 2000 | 480180
Dallas (FEMA Docket No. 7328) | City of Dallas | April 21, 2000, April 28, 2000, Dallas Morning News | The Honorable Ron Kirk, Mayor, City of Dallas, City Hall, 1500 Marilla Street, Dallas Texas 75201 | March 22, 2000 | 480171
Dallas (FEMA Docket No. 7328) | City of Garland | May 25, 2000, June 1, 2000, The Garland News | The Honorable Jim Spence, Mayor, City of Garland, P.O. Box 469002, Garland Texas 75046-9002 | April 21, 2000 | 485471
Denton (FEMA Docket No. 7328) | Unincorporated Areas | May 10, 2000, May 17, 2000, Lewisville News | The Honorable Kirk Wilson, Denton County Judge, Courthouse-on-the-Square, 110 West Hickory Street, Denton, Texas 76201 | March 31, 2000 | 480774
Denton (FEMA Docket No. 7328) | Unincorporated Areas | March 14, 2000, March 21, 2000, Denton Record Chronicle | The Honorable Kirk Wilson, Judge, Denton County, Courthouse on the Square, 110 West Hickory Street, Second Floor, Denton, Texas 76201 | February 2, 2000 | 480774
Fort Bend (FEMA Docket No. 7328) | West Keegans Bayou, Improvement District | March 21, 2000, March 28, 2000 Houston Chronicle | Ms. Sandra Weider, President, West Keegans Bayou, Improvement District, 15014 Tranmore Drive, Houston, Texas 77083 | February 10, 2000 | 481602
Harris (FEMA Docket No. 7328) | City of Houston | March 3, 2000, March 10, 2000, Houston Chronicle | The Honorable Lee Brown, Mayor, City of Houston, P.O. Box 1562, Houston, Texas 77251-1562 | January 31, 2000 | 480296
Tarrant (FEMA Docket No. 7328) | City of Saginaw | April 27, 2000, May 4, 2000, The Times Record | The Honorable Monte Nichols, Mayor, City of Saginaw, P.O. Box 79070, Saginaw, Texas 76179 | March 24, 2000 | 480610
Williamson (FEMA Docket No. 7328) | City of Round Rock | March 23, 2000, March 30, 2000, Round Rock Leader | The Honorable Charles Culpepper, Mayor, City of Round Rock, City Hall, 221 East Main Street, Round Rock, Texas 78664 | February 8, 2000 | 481048
Dallas (FEMA Docket No. 7328) | City of Dallas | May 16, 2000, May 23, 2000, Dallas Morning News | The Honorable Ron Kirk, Mayor, City of Dallas, 1500 Marilla Street, Dallas, Texas 75201 | August 21, 2000 | 480171
Johnson (FEMA Docket No. 7328) | City of Burleson | May 31, 2000, June 7, 2000, Burleson Star | The Honorable Byron F. Black, Mayor, City of Burleson, City Hall, 141 West Renfro, Burleson, Texas 76028 | September 5, 2000 | 485459
Denton (FEMA Docket No. 7328) | City of Lewisville | May 26, 2000, June 2, 2000, Lewisville News | The Honorable Clarence R. Myers, Mayor, City of Lewisville, 1197 West Main Street, Lewisville, Texas 75029-9002 | May 2, 2000 | 480195
Collin (FEMA Docket No. 7328) | City of Frisco | June 16, 2000, June 23, 2000, Frisco Enterprise | The Honorable Kathy Seei, Mayor, City of Frisco, P.O. Box 1100, Frisco, Texas 75034 | May 24, 2000 | 480134
Travis (FEMA Docket No. 7328) | Unincorporated Areas | May 2, 2000, May 9, 2000, Austin American Statesman | The Honorable Samuel T. Biscoe, Travis County Judge, P.O. Box 1748, Austin, Texas 78767-1748 | August 7, 2000 | 481026
Wichita (FEMA Docket No. 7328) | City of Wichita Falls | March 17, 2000, March 24, 2000, Wichita Falls Times Record News | The Honorable Kay Yeager, Mayor, City of Wichita Falls, 1300 Seventh Street, Wichita Falls, Texas 76301 | February 11, 2000 | 480662
Utah:
Utah (FEMA Docket No. 7328) | City of Provo | March 17, 2000, March 24, 2000, The Daily Herald | The Honorable Lewis Billings, Mayor, City of Provo, 351 West Center, Provo, Utah 84604 | June 22, 2000 | 490159
Washington:
Chelan (FEMA Docket No. 7328) | Unincorporated Areas | March 24, 2000, March 31, 2000, Wenatchee World | The Honorable John Hunter, Chairperson, Chelan County, Board of Commissioners, 350 Orando Avenue, Wenatchee, Washington 98801 | February 11, 2000 | 530015
Douglas (FEMA Docket No. 7328) | City of East Wenatchee | May 11, 2000, May 18, 2000, Wenatchee World | The Honorable Steve Lacy, Mayor, City of East Wenatchee, 215 Ninth Street Northeast, East Wenatchee, Washington 98802 | April 14, 2000 | 530038
Arizona:
Maricopa (FEMA Docket No. B-7400) | Unincorporated Areas | April 7, 2000, April 14, 2000, Arizona Republic | The Honorable Andrew Kunasek, Chairperson, Maricopa County, Board of Supervisors, 301 West Jefferson, 10th Floor, Phoenix, Arizona 85003 | February 29, 2000 | 040037
Pima (FEMA. Docket No. B-7400) | City of Tucson | April 18, 2000, April 25, 2000, Tucson Citizen | The Honorable Robert E. Walkup, Mayor, City of Tucson, P.O. Box 27210, Tucson, Arizona 85726 | July 24, 2000 | 040076
Pima (FEMA Docket No. B-7400) | Unincorporated Areas | April 18, 2000, April 25, 2000, Arizona Daily Star | The Honorable Sharon Bronson, Chairperson, Pima County, Board of Supervisors, 130 West Congress, 11th Floor, Tucson, Arizona 85701 | July 24, 2000 | 040073
Arkansas:
Sebastian (FEMA Docket No. B-7400) | City of Fort Smith | April 21, 2000, April 28, 2000, Southwest Times Record | The Honorable Ray Baker, Mayor, City of Fort Smith, P.O. Box 1908, Fort Smith, Arkansas 72902 | March 21, 2000 | 055013
California:
Contra Costa (FEMA Docket No. B-7400) | City of Walnut Creek | April 5, 2000, April 12, 2000, Contra Costa Times | The Honorable Charlie Abrams, Mayor, City of Walnut Creek, 1666 North Main Street, Walnut Creek, California 94596-8039 | March 8, 2000 | 065070
Riverside (FEMA Docket No. B-7400) | City of Corona | April 19, 2000, April 26, 2000, The Press Enterprise | The Honorable Jeffrey P. Bennett, Mayor, City of Corona, P.O. Box 940, Corona, California 92882-0940 | March 13, 2000 | 060250
Riverside (FEMA Docket No. B-7400) | City of Norco | April 19, 2000, April 26, 2000, The Press Enterprise | The Honorable Frank Hall, Mayor, City of Norco, P.O. Box 428, Norco, California 92860-0428 | March 13, 2000 | 060256
Colorado:
Arapahoe (FEMA Docket No. B-7400) | Unincorporated Areas | April 20, 2000, April 27, 2000, The Villager | The Honorable Steve Ward, Chairperson, Arapahoe County, Board of Commissioners, 5334 South Prince Street, Littleton, Colorado 80166 | March 13, 2000 | 080011
Nebraska:
Thurston (FEMA Docket No. B-7400) | Village of Pender | April 20, 2000, April 27, 2000, Pender Times | The Honorable Frank Appleton, Chairperson, Village of Pender, Board of Trustees, P.O. Box S, Pender, Nebraska 68047 | July 26, 2000 | 310221
New Mexico:
Bernalillo (FEMA Docket No. B-7400) | City of Albuquerque | April 6, 2000, April 13, 2000, Albuquerque Journal | The Honorable Jim Baca, Mayor, City of Albuquerque, P.O. Box 1293, Albuquerque, New Mexico 87103 | February 29, 2000 | 350002
Oklahoma:
Wagoner (FEMA Docket No. B-7400) | City of Coweta | April 19, 2000, April 26, 2000, Coweta American | The Honorable Mike Dill, Mayor, City of Coweta, City Hall, P.O. Box 850, Coweta, Oklahoma 74429 | March 10, 2000 | 400216
Texas:
Tarrant (FEMA Docket No. B-7400) | City of Fort Worth | April 20, 2000, April 27, 2000, The Star-Telegram | The Honorable Kenneth Barr, Mayor, City of Fort Worth, 1000 Throckmorton Street, Fort Worth, Texas 76102-6311 | March 24, 2000 | 480596
Tarrant (FEMA Docket No. B-7400) | City of Keller | March 28, 2000, April 4, 2000, The Keller Citizen | The Honorable Dave Phillips, Mayor, City of Keller, P.O. Box 770, Keller, Texas 76244 | July 3, 2000 | 480602
Williamson (FEMA Docket No. B-7400) | City of Austin | April 7, 2000, April 14, 2000, Austin American-Stateman | The Honorable Kirk Watson, Mayor, City of Austin, 124 West Eighth Street, Suite 103, Austin, Texas 78701 | March 1, 2000 | 480624
Williamson (FEMA Docket No. B-7400) | Unincorporated Areas | April 7, 2000, April 14, 2000, Austin American-Stateman | The Honorable John Doerffler, County Judge, Williamson County, 710 Main Street, Suite 201, Georgetown, Texas 78626 | March 1, 2000 | 481079
Arizona:
Gila (FEMA Docket No B-7402) | Town of Payson | June 6, 2000, June 13, 2000, Payson Roundup | The Honorable Vernon M. Stiffler, Mayor, Town of Payson, 303 North Beeline Highway, Payson, Arizona 85541-4306 | May 18, 2000 | 040107
Mohave (FEMA Docket No. B-7402) | Unincorporated Areas | May 3, 2000, May 10, 2000, Kingman Daily Minor | The Honorable Buster Johnson, Chairman, Mohave County, Board of Supervisors, 809 East Beale Street, Kingman, Arizona 86401-5924 | October 20, 2000 | 040058
Pima (FEMA Docket No. B-7402) | City of Tucson | June 20, 2000, June 27, 2000, Arizona Daily Star | The Honorable Robert Walkup, Mayor, City of Tucson, P.O. Box 27210, Tucson, Arizona 85726 | May 31, 2000 | 040076
Arkansas:
Crawford (FEMA Docket No. B-7402) | Unincorporated Areas | June 7, 2000, June 14, 2000, Crawford County Courier | The Honorable Jerry Williams, Crawford County Judge, Crawford County Courthouse, 300 Main Street, Room 4, Van Buren, Arkansas 72956-5798 | September 12, 2000 | 050428
California:
Alameda (FEMA Docket No. B-7402) | City of Fremont | June 1, 2000, June 8, 2000, The Argus | The Honorable Gus Morrison, Mayor, City of Fremont, P.O. Box 5006, Fremont, California 94537 | April 25, 2000 | 065028
Lake (FEMA Docket No. B-7402) | Unincorporated Areas | June 14, 2000, June 21, 2000, Lake County Record Bee | The Honorable D.W. Merriman, Chairperson, Lake County, Board of Supervisors, 255 North Forbes Street, Lakeport, California 95453 | May 25, 2000 | 060090
Colorado:
Adams (FEMA Docket No. B-7402) | City of Northglenn | May 18, 2000, May 25, 2000, Northglenn-Thornton Sentinel | The Honorable Don Parsons, Mayor, City of Northglenn, Colorado 80233-8061 | August 23, 2000 | 080257
Adams (FEMA Docket No. B-7402) | City of Thornton | May 18, 2000, May 25, 2000, Northglenn-Thornton Sentinel | The Honorable Noel Busck, Mayor, City of Thornton, 9500 Civic Center Drive, Thornton, Colarodo 80229 | August 23, 2000 | 080007
Missouri:
St. Charles (FEMA Docket No. B-7402) | City of O'Fallon | June 9, 2000, June 16, 2000, St. Charles Journal | The Honorable Paul Renaud, Mayor, City of O'Fallon, 138 South Main Street, O'Fallon, Missouri 63366 | May 24, 2000 | 290316
New Mexico:
Bernalillo (FEMA Docket No. B-7402) | Unincorporated Areas | May 11, 2000, May 18, 2000, Albuquerque Journal | The Honorable Tom Rutherford, Chairperson, Bernalillo County, Board of Commissioners, 2400 Broadway Southeast, Albuquerque, New Mexico 87102 | March 31, 2000 | 350001
Oklahoma:
Oklahoma (FEMA Docket No. B-7402) | City of Oklahoma City | May 31, 2000, June 7, 2000, Daily Oklahoma | The Honorable Kirk Humphreys, Mayor, City of Oklahoma City, 200 North Walker, Suite 302, Oklahoma City, Oklahoma 73102 | May 12, 2000 | 405378
Tulsa (FEMA Docket No. B-7402) | City of Glenpool | May 31, 2000, June 7, 2000, Tulsa World | The Honorable Charles Campbell, Mayor, City of Glenpool, P.O. Box 70, Glenpool, Oklahoma 74033 | September 5, 2000 | 400208
Texas:
Brazos (FEMA Docket No. B-7402) | City of Bryan | June 14, 2000, June 21, 2000, Bryan-College Station Eagle | The Honorable Lonnie Stabler, Mayor, City of Bryan, P.O. Box 1000, Bryan, Texas 77805 | September 19, 2000 | 480082
Brazos (FEMA Docket No. B-7402) | City of College Station | June 14, 2000, June 21, 2000, Bryan-College Station Eagle | The Honorable Lynn McIlhaney, Mayor, City of College Station, P.O. Box 9960, College Station, Texas 77842-0960 | September 19, 2000 | 480083
Denton (FEMA Docket No. B-7402) | City of Denton | June 22, 2000, June 29, 2000, Denton Record Chronicle | The Honorable Eulene Brock, Mayor, City of Denton, 215 East McKinney Street, Denton, Texas 76201 | June 1, 2000 | 480194
Denton (FEMA Docket No. B-7402) | City of Lewisville | May 26, 2000, June 2, 2000, Lewisville News | The Honorable Gene Carey, Mayor, City of Lewisville, 1197 West Main Street, Lewisville, Texas 75029-9002 | May 5, 2000 | 480195
Denton (FEMA Docket No. B-7402) | Unincorporated Areas | June 22, 2000, June 29, 2000, Denton Record Chronicle | The Honorable Kirk Wilson, Denton County Judge, 110 West Hickory Street, Denton, Texas 76201 | June 1, 2000 | 480774
Denton (FEMA Docket No. B-7402) | Town of Westlake | June 6, 2000, June 13, 2000, Keller Citizen | The Honorable Scott Bradley, Mayor, Town of Westlake, 3 Village Circle, Suite 207, Westlake, Texas 76262 | May 15, 2000 | 480614
Fort Bend (FEMA Docket No. B-7402) | Fort Bend County, Municipal Utility District No. 34 | May 12, 2000, May 19, 2000, Herald-Coaster | Mr. Saib Y. Saour, P.E., R.L.S, District Engineer, Fort Bend County Municipal, Utility District No. 34, c/o Benchmark Engineering Corporation, 2401 Fountainview Drive, Suite 220, Houston, Texas 77057 | March 31, 2000 | 481520
Fort Bend (FEMA Docket No. B-7402) | Fort Bend County, Municipal Utility District No. 35 | May 12, 2000, May 19, 2000, Herald-Coaster | Mr. Saib Y. Saour, P.E., R.L.S, District Engineer, Fort Bend County Municipal, Utility District No. 35, C/o Benchmark Engineering Corporation, 2401 Fountainview Drive, Suite 220, Houston, Texas 77057 | March 31, 2000 | 481519
Fort Bend (FEMA Docket No. B-7402) | Unincorporated Areas | May 12, 2000, May 19, 2000, Herald-Coaster | The Honorable James Adolphus, Fort Bend County Judge, 301 Jackson Street, Suite 719, Richmond, Texas 77469 | March 31, 2000 | 480228
Harris (FEMA Docket No. B-7402) | City of Houston | June 6, 2000, June 13, 2000, Houston Chronicle | The Honorable Lee Brown, Mayor, City of Houston, P.O. Box 1562 Houston, Texas 77251-1562 | September 11, 2000 | 480296
Washington:
Skagit (FEMA Docket No. B-7402) | Unincorporated Areas | May 11, 2000, May 18, 2000, Skagit Valley Herald | The Honorable Harvey Wolden, Chairperson, Skagit County, Board of Commissioners, 700 South Second Street, Room 202, Mount Vernon, Washington 98273 | April 7, 2000 | 530151
Arizona:
Maricopa (FEMA Docket No. B-7403) | City of Glendale | July 27, 2000, August 3, 2000, Arizona Republic | The Honorable Elaine Scruggs, Mayor, City of Glendale, 5850 West Glendale Avenue, Glendale, Arizona 85301 | July 5, 2000 | 040045
Maricopa (FEMA Docket No. B-7403) | City of Glendale | August 31, 2000, September 7, 2000, Arizona Republic | The Honorable Elaine Scruggs, Mayor, City of Glendale, 5850 West Glendale, Glendale, Arizona 85301 | August 10, 2000 | 040045
Maricopa (FEMA Docket No. B-7403) | City of Peoria | July 27, 2000, August 3, 2000, Arizona Republic | The Honorable John Keegan, Mayor, City of Peoria, 8401 West Monroe Street, Peoria, Arizona 85345 | July 5, 2000 | 040050
Maricopa (FEMA Docket No. B-7403) | City of Phoenix | July 27, 2000, August 3, 2000, Arizona Republic | The Honorable Skip Rimsza, Mayor, City of Phoenix, 200 West Washington Street, 11th Floor, Phoenix, Arizona 85003 | July 5, 2000 | 040051
Maricopa (FEMA Docket No. B-7403) | City of Phoenix | August 31, 2000, September 7, 2000, Arizona Republic | The Honorable Skip Rimsza, Mayor, City of Phoenix, 200 West Washington Street, 11th Floor, Phoenix, Arizona 85003 | August 10, 2000 | 040051
Maricopa (FEMA Docket No. B-7403) | City of Phoenix | September 14, 2000, September 21, 2000, Arizona Republic | The Honorable Skip Rimsza, Mayor, City of Phoenix, 200 West Washington Street, 11th Floor, Phoenix, Arizona 85003 | August 22, 2000 | 040051
Maricopa (FEMA Docket No. B-7403) | Unincorporated Areas | August 31, 2000, September 7, 2000, Arizona Republic | The Honorable Andrew Kunasek, Chairperson, Maricopa County, Board of Supervisors, 301 West Jefferson, 10th Floor, Phoenix, Arizona 85003 | August 10, 2000 | 040037
Pima (FEMA Docket No.B-7403) | City of Tucson | July 6, 2000, July 13, 2000, Arizona Daily Star | The Honorable Robert E. Walkup, Mayor, City of Tucson, P.O. Box 27210, Tucson, Arizona 85726 | June 16, 2000 | 040076
Pima (FEMA Docket No. B-7403) | City of Tucson | July 27, 2000, August 3, 2000, Tucson Citizen | The Honorable Robert E. Walkup, Mayor, City of Tucson, P.O. Box 27210, Tucson, Arizona 85726 | July 10, 2000 | 040076
Pima (FEMA Docket No. B-7403) | City of Tucson | August 29, 2000, September 5, 2000, Tucson Citizen | The Honorable Robert E. Walkup, Mayor, City of Tucson, P.O. Box 27210, Tucson, Arizona 85726 | August 8, 2000 | 040076
Pima (FEMA Docket No. B-7403) | City of Tucson | August 30, 2000, September 6, 2000, Tucson Citizen | The Honorable Robert E. Walkup, Mayor, City of Tucson, P.O. Box 27210, Tucson, Arizona 85726 | July 26, 2000 | 040076
Pima (FEMA Docket No. B-7403) | Unincorporated Areas | July 6, 2000, July 13, 2000, Arizona Daily Star | The Honorable Sharon Bronson, Chairperson, Pima County, Board of Supervisors 130 West Congress, 11th Floor, Tucson, Arizona 85701 | June 16, 2000 | 040073
California:
Mendocino (FEMA Docket No. B-7403) | Unincorporated Areas | September 22, 2000, September 29, 2000, Ukiah Daily Journal | The Honorable Michael Delbar, Chairperson, Mendocino County, Board of Supervisors, 501 Low Gap Road, Room 1090, Ukiah, California 95482 | August 21, 2000 | 060183
Napa (FEMA Docket No. B-7403) | Unincorporated Areas | June 29, 2000, July 6, 2000, Napa Valley Register | The Honorable Jay Hull, Administrator, Napa County, 1195 Third Street, Third Floor, Room 310, Napa, California 94559 | June 14, 2000 | 060205
Orange (FEMA Docket No. B-7403) | City of Irvine | June 9, 2000, June 16, 2000, Orange County Register | The Honorable Christina Shea, Mayor, City of Irvine, P.O. Box 19575, Irvine, California 92623-9575 | May 26, 2000 | 060222
Orange (FEMA Docket No. B-7403) | City of Laguna Hills | June 9, 2000, June 16, 2000, Orange County Register | The Honorable Joel Lautenschleger, Mayor, City of Laguna Hills, 25201 Paseo de Alicia, Suite 150, Laguna Hills, California 92653 | May 26, 2000 | 060760
Riverside (FEMA Docket No. B-7403) | City of Moreno Valley | September 22, 2000, September 29, 2000, Valley Times | The Honorable Richard Stewart, Mayor, City of Moreno Valley, 14177 Frederick Street, Moreno Valley, California 92552 | August 31, 2000 | 065074
Sacramento (FEMA Docket No. B-7403) | City of Sacramento | September 13, 2000, September 20, 2000, Sacramento Bee | The Honorable Joe Serna, Jr., Mayor, City of Sacramento, City Hall 915 I Street, Room 205, Sacramento, California 95814 | August 21, 2000 | 060266
Sacramento (FEMA Docket No. B-7403) | Unincorporated Areas | August 22, 2000, August 29, 2000, Sacramento Bee | The Honorable Roger Dickinson, Chairperson, Sacramento County, Board of Supervisors, 700 H Street, Room 2450, Sacramento, California 95814 | August 2, 2000 | 060262
Sacramento (FEMA Docket No. B-7403) | Unincorporated Areas | September 14, 2000, September 21, 2000, Sacramento Bee | The Honorable Roger Dickinson, Chairperson, Sacramento County, Board of Supervisors, 700 H Street, Room 2450, Sacramento, California 95814 | August 23, 2000 | 060262
San Diego (FEMA Docket No. B-7403) | City of Oceanside | September 12, 2000, September 19, 2000, North County Times | The Honorable Dick Lyon, Mayor, City of Oceanside, 300 North Coast Highway, Oceanside, California 92054-2885 | August 25, 2000 | 060294
Colorado:
Arapahoe (FEMA Docket No. B-7403) | City of Aurora | August 10, 2000, August 17, 2000, Aurora Sentinel | The Honorable Paul Tauer, Mayor, City of Aurora, 1470 South Havana Street, Aurora, Colorado 80012 | July 19, 2000 | 080002
El Paso (FEMA Docket No. B-7403) | City of Colorado Springs | August 15, 2000, August 22, 2000, The Gazette | The Honorable MaryLou Makepeace, Mayor, City of Colorado Springs, P.O. Box 1575, Colorado Springs, Colorado 80901-1575 | July 28, 2000 | 080060
Mesa (FEMA Docket No. B-7403) | City of Grand Junction | August 17, 2000, August 24, 2000, Daily Sentinel | The Honorable Gene Kinsey, Mayor, City of Grand Junction, 250 North Fifth Street Grand Junction, Colorado 81501-2668 | November 22, 2000 | 080117
Mesa (FEMA Docket No. B-7403) | Unincorporated Areas | August 17, 2000, August 24, 2000,Daily Sentinel | The Honorable Doralyn B. Genova, Chairperson, Mesa County, Board of Commissioners, P.O. Box 20000, Grand Junction, Colorado 81502-5001 | November 22, 2000 | 080115
Weld (FEMA Docket No. B-7403) | Town of Windsor | August 31, 2000, September 7, 2000, Windsor Beacon | The Honorable Wayne Miller, Mayor, Town of Windsor, 301 Walnut Street, Windsor, Colorado 80550 | December 6, 2000 | 080264
Weld (FEMA Docket No. B-7403) | Unincorporated Areas | August 31, 2000, September 7, 2000, Greeley Daily Tribune | The Honorable Barbara Kirkmeyer, Chairperson, Weld County, Board of Commissioners, P.O. Box 758, Greeley, Colorado 80632-0758 | December 6, 2000 | 080266
Idaho:
Boise (FEMA Docket No. B-7403) | City of Idaho City | August 18, 2000, August 25, 2000, The Idaho Statesman | The Honorable Thomas D. Corum, Mayor, City of Idaho City, P.O. Box 130, Idaho City, Idaho 83631 | July 28, 2000 | 160222
Boise (FEMA Docket No. B-7403) | Unincorporated Areas | August 18, 2000, August 25, 2000, The Idaho Statesman | The Honorable John S. Foard, Sr., Chairperson, Boise County, Board of Commissioners, P.O. Box BC, Idaho City, Idaho 83631 | July 28, 2000 | 160205
Teton (FEMA Docket No. B-7403) | Unincorporated Areas | August 17, 2000, August 24, 2000, Teton Valley News | The Honorable Brent Robson, Chairperson, Teton County, Board of Commissioners, 89 North Main, Driggs, Idaho 83422 | August 2, 2000 | 160230
Nevada:
Clark (FEMA Docket No. B-7403) | Unincorporated Areas | July 21, 2000, July 28, 2000, Las Vegas Review-Journal | The Honorable Bruce L. Woodbury, Chairman, Clark County, Board of Commissioners, P.O. Box 551601, Las Vegas, Nevada 89155-1601 | June 28, 2000 | 320003
Clark (FEMA Docket No. B-7403) | Unincorporated Areas | September 21, 2000, September 28, 2000, Las Vegas Review-Journal | The Honorable Bruce L. Woodbury, Chairperson, Clark County, Board of Commissioners P.O. Box 551601, Las Vegas, Nevada 89155-1601 | August 29, 2000 | 320003
Elko (FEMA Docket No. B-7403) | City of Elko | August 16, 2000, August 23, 2000, Elko Daily Free Press | The Honorable Mike Franzoia, Mayor, City of Elko, 1751 College Avenue, Elko, Nevada 89801 | July 21, 2000 | 320010
New Mexico:
Bernalillo (FEMA Docket No. B-7403) | City of Albuquerque | August 9, 2000, August 16, 2000, Albuquerque Journal | The Honorable Jim Baca, Mayor, City of Albuquerque, P.O. Box 1293, Albuquerque, New Mexico 87103 | July 13, 2000 | 350002
Bernalillo (FEMA Docket No. B-7403) | City of Albuquerque | August 10, 2000, August 17, 2000, Albuquerque Journal | The Honorable Jim Baca, Mayor, City of Albuquerque, P.O. Box 1293, Albuquerque, New Mexico 87103 | July 13, 2000 | 350002
Oklahoma:
Tulsa (FEMA Docket No. B-7403) | City of Bixby | September 15, 2000, September 22, 2000, Tulsa World | The Honorable Joe Williams, Mayor, City of Bixby, 116 West Needles Avenue, Bixby, Oklahoma 74008 | December 21, 2000 | 400207
Tulsa (FEMA Docket No. B-7403) | City of Tulsa | September 15, 2000, September 22, 2000, Tulsa World | The Honorable M. Susan Savage, Mayor, City of Tulsa, City Hall, 200 Civic Center, Tulsa, Oklahoma 74103 | December 21, 2000 | 405381
Tulsa (FEMA Docket No. B-7403) | Unincorporated Areas | September 15, 2000, September 22, 2000, Tulsa World | The Honorable Wilbert E. Collins, Sr., Chairperson, Tulsa County, Board of Commissioners, 500 South Denver, Tulsa, Oklahoma 74103 | December 21, 2000 | 400462
Oregon:
Clackamas (FEMA Docket No. B-7403) | City of Milwaukie | September 15, 2000, September 22, 2000, The Oregonian | The Honorable Carolyn Tomeri, Mayor, City of Milwaukie, City Hall, 10722 Southeast Main Street, Milwaukie, Oregon 97222 | December 21, 2000 | 410019
Clackamas (FEMA Docket No. B-7403) | Unincorporated Areas | September 15, 2000, September 22, 2000, The Oregonian | The Honorable Bill Kennemer, Chairperson, Clackamas County, Board of Commissioners, 906 Main Street, Oregon City, Oregon 97045 | December 21, 2000 | 415588
Multnomah (FEMA Docket No. B-7403) | City of Portland | September 15, 2000, September 22, 2000, The Oregonian | The Honorable Vera Katz, Mayor, City of Portland, 1221 Southwest Fourth Avenue, Portland, Oregon 97204 | December 21, 2000 | 410183
Multnomah (FEMA Docket No. B-7403) | Unincorporated Areas | September 15, 2000, September 22, 2000, The Oregonian | The Honorable Beverly Stein, Chairperson, Multnomah County, Board of Commissioners, 1120 Southwest Fifth Avenue, Room 1515, Portland, Oregon 97204 | December 21, 2000 | 410179
Texas:
Brazos (FEMA Docket No. B-7403) | City of College Station | August 3, 2000, August 10, 2000, Bryan-College Station Eagle | The Honorable Lynn McIlhaney, Mayor, City of College Station, P.O. Box 9960, College Station, Texas 77842-0960 | July 10, 2000 | 480083
Collin (FEMA Docket No. B-7403) | City of Frisco | July 28, 2000, August 4, 2000, Frisco Enterprise | The Honorable Kathy Seei, Mayor, City of Frisco, P.O. Box 1100, Frisco, Texas 75034 | July 5, 2000 | 480134
Collin (FEMA Docket No. B-7403) | City of Plano | August 16, 2000, August 23, 2000, Plano Star Courier | The Honorable Jeran Akers, Mayor, City of Plano, P.O. Box 860358, Plano, Texas 75086-0358 | July 25, 2000 | 480140
Collin (FEMA Docket No. B-7403) | Unincorporated Areas | August 16, 2000, August 23, 2000, Plano Star Courier | The Honorable Ron Harris, Collin County Judge, 210 South McDonald Street, McKinney, Texas 75086-0358 | July 25, 2000 | 480130
Dallas (FEMA Docket No. B-7403) | City of Dallas | September 19, 2000, September 26, 2000, Dallas Morning News | The Honorable Ron Kirk, Mayor, City of Dallas, City Hall, 1500 Marilla Street, Dallas, Texas 75201 | August 24, 2000 | 480171
Dallas (FEMA Docket No. B-7403) | City of Richardson | August 3, 2000, August 10, 2000, Richardson Daily News | The Honorable Gary Slagel, Mayor, City of Richardson, P.O. Box 830309, Richardson, Texas 75083-0309 | November 8, 2000 | 480184
Denton (FEMA Docket No. B-7403) | City of Denton | August 10, 2000, August 17, 2000, Denton Record-Chronicle | The Honorable Euline Brock, Mayor, City of Denton, 215 East Mckinney Street, Denton, Texas 76201 | July 14, 2000 | 480194
Harris (FEMA Docket No. B-7403) | Unincorporated Areas | August 29, 2000, September 5, 2000, Houston Chronicle | The Honorable Robert Eckels, Harris County Judge, 1001 Preston Street, Suite 911, Houston, Texas 77002 | August 14, 2000 | 480287
Montgomery (FEMA Docket No. B-7403) | Unincorporated Areas | September 7, 2000, September 14, 2000, Conroe Courier | The Honorable Alan Sadler, Montgomery County Judge, 301 North Thompson Street, Suite 210, Conroe, Texas 77301 | December 13, 2000 | 480483
Arizona:
Cochise (Docket No. FEMA-B-7406) | Unincorporated Areas | September 20, 2000, September 27, 2000, Arizona Range News | The Honorable Mike Palmer, Chairman, Cochise County, Board of Supervisors, 1415 West Melody Lane, Bisbee, Arizona 85603 | December 26, 2000 | 040012
Cochise (Docket No. FEMA-B-7406) | City of Sierra Vista | September 20, 2000, September 27, 2000, Sierra Vista Herald | The Honorable Tom Hessler, Mayor, City of Sierra Vista, 1011 North Coronado Drive, Sierra Vista, Arizona 85635 | December 26, 2000 | 040017
Hawaii:
Hawaii (Docket No FEMA-B-7406) | Unincorporated Areas | October 5, 2000, October 12, 2000, Hawaii Tribune Herald | The Honorable Stephen K. Yamashiro, Mayor, Hawaii County, 25 Aupuni Street, Hilo, Hawaii 96720 | September 19, 2000 | 155166
Oregon:
Polk (Docket No. FEMA-B-7406) | City of Dallas | October 18, 2000, October 25, 2000, Polk County Itemizer Observer | The Honorable Gwen Van Den Bosch, Mayor, City of Dallas, P.O. Box 67, Dallas, Oregon 97338 | January 23, 2001 | 410187
Polk (Docket No. FEMA-B-7406) | Unincorporated Areas | October 18, 2000, October 25, 2000, Polk County Itemizer Observer | The Honorable Thomas Ritchey, Chairman, Polk County, Board of Commissioners, 850 Main Street, Dallas, Oregon 97338 | January 23, 2001 | 410186
Washington (Docket No. FEMA-B-7406) | City of Beaverton | October 4, 2000, October 11, 2000, The Oregonian | The Honorable Rob Drake, Mayor, City of Beaverton, P.O. Box 4755, Beaverton, Oregon 97076 | May 25, 2000 | 410240
Washington (Docket No. FEMA-B-7406) | Unincorporated Areas | October 4, 2000, October 11, 2000, The Oregonian | The Honorable Tom Brian, Chairman, Washington County, Board of Commissioners, 155 North First Avenue, Suite 300, M.S. 22, Hillsboro, Oregon 97124-3072 | May 25, 2000 | 410238
Texas:
Dallas (Docket No. FEMA-B-7406) | City of Dallas | September 29, 2000, October 6, 2000, Dallas Morning News | The Honorable Ron Kirk, Mayor, City of Dallas, 1500 Marilla Street, Suite 5EN, Dallas, Texas 75201 | January 4, 2001 | 480171
Harris (Docket No. FEMA-B-7406) | City of Houston | September 15, 2000, September 22, 2000, Houston Chronicle | The Honorable Lee Brown, Mayor, City of Houston, P.O. Box 1562 Houston, Texas 77251-1562 | August 24, 2000 | 480296
Harris (Docket No. FEMA-B-7406) | Unincorporated Areas | September 15, 2000, September 22, 2000, Houston Chronicle | The Honorable Robert Eckels, Harris County Judge, 1001 Preston Street, Suite 911, Houston, Texas 77002 | August 24, 2000 | 480287
Hays (Docket No. FEMA-B-7406) | City of Kyle | June 22, 2000, June 29, 2000, The Free Press | The Honorable James Adkins, Mayor, City of Kyle, P.O. Box 40, Kyle, Texas 78640 | September 27, 2000 | 481108
Tarrant (Docket No. FEMA-B-7406) | City of Keller | October 17, 2000, October 24, 2000, The Keller Citizen | The Honorable Dave Philips, Mayor, City of Keller, P.O. Box 770, Keller, Texas 76244 | October 3, 2000 | 480602
Travis (Docket No. FEMA-B-7406) | City of Austin | September 29, 2000, October 4, 2000, Austin American Statesman | The Honorable Kirk Wilson, City of Austin, 124 West 8th Street, Austin, Texas 78701 | January 4, 2001 | 480624
Williamson (Docket No. FEMA-B-7406) | City of Leander | September 27, 2000, October 4, 2000, Hill Country News | The Honorable Larry Barnett, Mayor, City of Leander, P.O. Box 319, Leander, Texas 78646 | January 2, 2001 | 481536
Virginia:
Albemarle (Docket No. FEMA-B-7406) | Unincorporated Areas | July 27, 2000, August 3, 2000, Daily Progress | The Honorable Robert W. Tucker, Jr., Albemarle County Executive, Albemarle County Office Building, 401 McIntire Road, Charlottesville, Virginia 22902 | July 5, 2000 | 510006

(Catalog of Federal Domestic Assistance No. 83.100, “Flood Insurance.”)
Dated: February 26, 2001.
Margaret E. Lawless,
Acting Executive Associate Director For Mitigation.

[FR Doc. 01-5186 Filed 3-2-01; 8:45 am]

BILLING CODE 6718-04-P